DEPARTMENT OF LABOR

Employment and Training Administration

[TA-W-61,885A]

Littelfuse, Inc., Including On-Site Temporary Workers From Aerotek and Labor Solutions, Elk Grove, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 6, 2007, applicable to workers of Littelfuse, Inc., Elk Grove, Illinois. The notice was published in the Federal Register on August 27, 2007 (72 FR 49024).

At the request of a company official, the Department reviewed the certification for workers of the subject firm. The workers perform warehousing and distribution in support of a trade certified affiliate.

New information shows that temporary workers of AeroTek and Labor Solutions were employed on-site at the Elk Grove, Illinois, location of Littelfuse, Inc. The Department has determined that these workers were sufficiently under the control of the subject firm to be considered temporary workers.

Based on these findings, the Department is amending this certification to include temporary workers of AeroTek and Labor Solutions working on-site at the Elk Grove, Illinois, location of the subject firm.

The intent of the Department's certification is to include all workers at Littlefuse, Inc., Elk Grove, Illinois, who were adversely affected by increased imports following a shift in production to a foreign country.

The amended notice applicable to TA-W-61,885A is hereby issued as follows:

“All workers of Littelfuse, Inc., including on-site temporary workers from AeroTek and Labor Solutions, Elk Grove, Illinois, who became totally or partially separated from employment on or after July 20, 2006, through August 6, 2009, are eligible to apply for adjustment assistance under Section 223 of the Trade Act of 1974, and are also eligible to apply for alternative trade adjustment assistance under Section 246 of the Trade Act of 1974.”

Signed at Washington, DC, this 23rd day of May 2008.
Linda G. Poole,
Certifying Officer, Division of Trade Adjustment Assistance.

[FR Doc. E8-12328 Filed 6-2-08; 8:45 am]

BILLING CODE 4510-FN-P